DEPARTMENT OF COMMERCE

National Oceanic and Atmospheric Administration

[I.D. 031005A]

Magnuson-Stevens Act Provisions; Fisheries of the Northeastern United States; Northeast Multispecies Fishery; 2005 Georges Bank Cod Hook Sector Operations Plan and Agreement and Allocation of GB Cod Total Allowable Catch

AGENCY: National Marine Fisheries Service (NMFS), National Oceanic and Atmospheric Administration (NOAA), Commerce.

ACTION: Notice; request for comments.

SUMMARY: Amendment 13 to the Northeast (NE) Multispecies Fishery Management Plan (FMP) (Amendment 13) authorized allocation of up to 20 percent of the annual Georges Bank (GB) cod total allowable catch (TAC) to the GB Cod Hook Sector (Sector). Pursuant to that authorization, the Sector has submitted an Operations Plan and Sector Contract entitled, “Amendment 1 to Georges Bank Cod Hook Sector Operations Plan and Agreement” (together referred to as the Sector Agreement), and a Supplemental Environmental Assessment (EA), and has requested an allocation of GB cod, consistent with regulations implementing Amendment 13. This notice provides interested parties an opportunity to comment on the proposed Sector Agreement prior to final approval or disapproval of the Sector Operations Plan and allocation of GB cod TAC to the Sector for the 2005 fishing year.

DATES: Written comments must be received on or before April 18, 2005.

ADDRESSES: Written comments should be sent to Patricia A. Kurkul, Regional Administrator, NMFS, Northeast Regional Office, 1 Blackburn Drive, Gloucester, MA 01930. Mark the outside of the envelope “Comments on GB Cod Hook Sector Operations Plan.” Comments may also be sent via fax to (978) 281-9135, or submitted via e-mail to: codsector@NOAA.gov.

Copies of the Sector Agreement and the EA are available from the NE Regional Office at the mailing address specified above.

FOR FURTHER INFORMATION CONTACT: Thomas Warren, Fishery Policy Analyst, phone (978) 281-9347, fax (978) 281-9135, e-mail Thomas.Warren@NOAA.gov.

SUPPLEMENTARY INFORMATION: NMFS announces that the Administrator, Northeast Region, NMFS (Regional Administrator), has made a preliminary determination that the Sector Agreement, which contains the Sector Contract and Operations Plan, is consistent with the goals of the NE multispecies FMP and other applicable law and is in compliance with the regulations governing the development and operation of a sector as specified under 50 CFR 648.87. The final rule implementing Amendment 13 (69 FR 22906, April 27, 2004) specified a process for the formation of sectors within the NE multispecies fishery and the allocation of TAC for a specific groundfish species (or Days-at-Sea (DAS)), implemented restrictions that apply to all sectors, authorized the GB Cod Hook Sector, established the GB Cod Hook Sector Area (Sector Area), and specified a formula for the allocation of GB cod TAC to the Sector.

The principal Amendment 13 regulations applying to the Sector specify that: (1) All vessels with a valid limited access NE multispecies DAS permit are eligible to participate in the Sector, provided they have documented landings of GB cod through valid dealer reports submitted to NMFS of GB cod during the fishing years 1996 to 2001 when fishing with hook gear (i.e., jigs, demersel longline, or handgear); (2) Membership in the Sector is voluntary, and each member would be required to remain in the Sector for the entire fishing year and could not fish outside the NE multispecies DAS program during the fishing year, unless certain conditions are met; (3) Vessels fishing in the Sector (participating vessels) would be confined to fishing in the Sector Area, which is that portion of the GB cod stock area north of 39°00′ N. lat. and east of 71°40′ W. long; and (4) Participating vessels would be required to comply with all pertinent Federal fishing regulations, unless specifically exempted by a Letter of Authorization, and the provisions of an approved Operations Plan.

While Amendment 13 authorized the Sector, in order for GB cod to be allocated to the Sector and the Sector authorized to fish, the Sector must submit an Operations Plan and Sector Contract to the Regional Administrator annually for approval. The Operations Plan and Sector Contract must contain certain elements, including a contract signed by all Sector participants and a plan containing the management rules that the Sector participants agree to abide by in order to avoid exceeding the allocated TAC. An additional analysis of the impacts of the Sector's proposed operations may be required in order to comply with the National Environmental Policy Act. Further, the public must be provided an opportunity to comment on the proposed Operations Plan and Sector Contract. The regulations require that, upon completion of the public comment period, the Regional Administrator will make a determination regarding approval of the Sector Contract and Operations Plan. If approved by the Regional Administrator, participating vessels would be authorized to fish under the terms of the Operations Plan and Sector Contract.

The Sector was authorized for fishing year (FY) 2004 and, based upon the hook gear landings history of its 58 members, was allocated 371 mt of cod, which is 12.587 percent of the total 2004 GB cod TAC.

On March 3, 2005, the Sector Manager submitted to NMFS, Amendment 1 to the 2004 Sector Agreement and a supplemental EA entitled “The Georges Bank Cod Hook Sector Operations Plan” which analyzes the impacts of the proposed Sector Agreement.

With three substantive exceptions, the proposed 2005 Sector Agreement contains the same elements as the 2004 Sector Agreement. The first substantive modification to the 2004 Sector Agreement is the eligibility criteria for membership. The 2004 eligibility criteria for membership in the Sector specified issuance of a limited access NE multispecies DAS permit, and documented landings of GB cod by hook gear, during the qualifying period. Framework Adjustment 40-B, which is currently under review by NMFS, proposes to modify the eligibility criteria for the Sector and the basis upon which the TAC allocation is determined. If Framework 40-B is approved, the eligibility criteria will be expanded to include landings of GB cod by all gears (beginning in 2005), and the TAC allocated to the Sector would be based on the members' landings of GB cod using any gear rather than being based only on historic landings of GB cod by hook gear.

The second substantive modification proposed in the 2005 Sector Agreement is a change to the Penalty Schedule, which proposes more severe penalties for violations of the time or area restrictions. The third modification proposed is the removal of the current gear requirement limiting the number of bundles of hooks in set in the Sector's inshore gear restriction area (the maximum number of 4,500 hooks is the same).

The Sector Agreement would be overseen by a Board of Directors and a Sector Manager. The Sector Agreement specifies, in accordance with Amendment 13, that the Sector's GB cod TAC would be based upon the number of Sector members and their historic landings of GB cod. The GB cod TAC is a “hard” TAC, meaning that, once the TAC is reached, Sector vessels could not fish under a DAS, possess or land GB cod or other regulated species managed under the FMP (regulated species), or use gear capable of catching groundfish (unless fishing under charter/party or recreational regulations).

As of March 18, 2005, 52 prospective Sector members had signed the 2005 Sector Contract. Because a new method of TAC calculation could be implemented under Framework 40-B, two GB cod TAC allocations were calculated: One based upon historic cod landings by hook gear only (i.e., when fishing with jigs, demersal longline, or handgear), and a second allocation based upon landings by all gear. The allocation percentages were calculated by dividing the sum of total landings of GB cod by Sector members for the fishing years 1996 through 2001, by the sum of the total accumulated landings of GB cod harvested by all NE multispecies vessels for the same time period (113,278,842 lb). The resulting numbers are 11.32 percent and 11.65 percent, for hook gear and all gear, respectively. Based upon these 52 prospective Sector members, the Sector TACs of GB cod would be either 463 mt or 477 mt (11.32 or 11.65 percent times the fishery-wide GB cod target TAC of 4,090 mt, respectively). The fishery-wide GB cod target TAC of 4,090 mt is less than the GB cod target TAC specified in Amendment 13 (4,830 mt) because the 4,830 mt included Canadian catch. That is, the fishery-wide GB cod target TAC of 4,090 mt was calculated by subtracting the GB cod TAC specified for Canada under the U.S./Canada Resource Sharing Understanding for the 2005 fishing year (740 mt), from the overall GB cod target TAC of 4,830 mt specified in Amendment 13. If prospective members of the Sector change their minds after the publication of this notice and prior to a final decision by the Regional Administrator, it is possible that the total number of participants in the Sector and the TAC for the Sector may be slightly reduced from the numbers above.

The Sector Agreement contains procedures for the enforcement of the Sector rules, a schedule of penalties, and provides the authority to the Sector Manager to issue stop fishing orders to members of the Sector. Participating vessels would be required to land fish only in designated landing ports and would be required to provide the Sector Manager with a copy of the Vessel Trip Report (VTR) within 48 hours of offloading. Dealers purchasing fish from participating vessels would be required to provide the Sector Manager with a copy of the dealer report on a weekly basis. On a monthly basis, the Sector Manager would transmit to NMFS a copy of the VTRs and the aggregate catch information from these reports. After 90 percent of the Sector's allocation has been harvested, the Sector Manager would be required to provide NMFS with aggregate reports on a weekly basis. A total of 1/12 of the Sector's GB cod TAC, minus a reserve, would be allocated to each month of the fishing year. GB cod quota that is not landed during a given month would be rolled over into the following month. Once the aggregate monthly quota of GB cod is reached, for the remainder of the month, participating vessels could not fish under a NE multispecies DAS, possess or land GB cod or other regulated species, or use gear capable of catching regulated NE multispecies. Once the annual TAC of GB cod is reached, Sector members could not fish under a NE multispecies DAS, possess or land GB cod or other regulated species, or use gear capable of catching regulated NE multispecies for the rest of the fishing year. The harvest rules would not preclude vessels from fishing under the charter/party or recreational regulations, provided the vessel fishes under the applicable charter/party and recreational rules on separate trips. For each fishing trip, participating vessels would be required to fish under the NE multispecies DAS program to account for any incidental groundfish species that they may catch while fishing for GB cod. In addition, participating vessels would be required to call the Sector Manager prior to leaving port. There would be no trip limit for GB cod for participating vessels. All legal-sized cod caught would be retained and landed and counted against the Sector's aggregate allocation. Participating vessels would not be allowed to fish with or have on board gear other than jigs, non-automated demersal longline, or handgear. Participating vessels would be limited to using 4,500 hooks within the inshore gear restriction area, but may use an unlimited number of hooks in the rest of the Sector Area. NE multispecies DAS used by participating vessels while conducting fishery research under an Exempted Fishing Permit during the 2005 fishing year would be deducted from that Sector member's individual DAS allocation. Similarly, all GB cod landed by a participating vessel while conducting research would count toward the Sector's allocation of GB cod TAC. Participating vessels would be exempt from the GB Seasonal Closure Area during the month of May.

The EA prepared for the Sector operations concludes that the biological impacts of the Sector will be positive because the hard TAC and the use of DAS will provide two means of restricting both the landings and effort of the Sector. Implementation of the Sector would have a positive impact on essential fish habitat and bycatch by allowing a maximum number of hook vessels to remain active in the hook fishery, rather than converting to (or leasing DAS to) other gear types that have greater environmental impacts. The analysis of economic impacts of the Sector concludes that Sector members would realize higher economic returns if the Sector were implemented. The EA asserts that fishing in accordance with the Sector Agreement rules enables more efficient harvesting of GB cod with hook gear than would be possible if the vessels were fishing in accordance with the common pool (non-Sector) rules. The social benefits of the Sector would accrue to both Sector members as well as the Chatham/Harwichport, MA, community, which is highly dependent upon groundfish revenues and is likely to be negatively affected by the reduced cod trip limit that was implemented under Amendment 13. The EA concludes that the self-governing nature of the Sector and the development of rules by the Sector enables stewardship of the cod resource by Sector members. The cumulative impacts of the Sector are expected to be positive due to a positive biological impact, neutral impact on habitat, and a positive social and economic impact. In contrast, the cumulative impact of the no action alternative is estimated to be neutral, with negative social and economic impacts.

Should the Regional Administrator approve the Sector Agreement as proposed, a Letter of Authorization would be issued to each member of the Sector exempting them, conditional upon their compliance with the Sector Agreement, from the GB cod possession restrictions and the requirements of the Gulf of Maine trip limit exemption program, limits on the number of hooks, and the GB Seasonal Closure Area, as specified in §§ 648.86(b), 648.80(a)(4)(v), and 648.81(g), respectively.

Regulations under the Magnuson-Stevens Fishery Conservation and Management Act (Magnuson-Stevens Act) require publication of this notification to provide interested parties the opportunity to comment on proposed TAC allocations and plans of operation of sectors.

Dated: March 29, 2005.
Alan D. Risenhoover,
Acting Director, Office of Sustainable Fisheries, National Marine Fisheries Service.

[FR Doc. E5-1469 Filed 3-31-05; 8:45 am]

BILLING CODE 3510-22-S